DEPARTMENT OF ENERGY

Federal Energy Regulatory Commission

Combined Notice of Filings

Take notice that the Commission has received the following Natural Gas Pipeline Rate and Refund Report filings:

Filings Instituting Proceedings

Docket Numbers: RP14-667-000.

Applicants: Texas Eastern Transmission, LP.

Description: BP Energy 911147 05-01-2014 Negotiated Rate to be effective 5/1/2014.

Filed Date: 3/31/14.

Accession Number: 20140331-5092.

Comments Due: 5 p.m. ET 4/14/14.

Docket Numbers: RP14-668-000.

Applicants: Panhandle Eastern Pipe Line Company, LP.

Description: Flow Through of Cash Out Revenues filed on 3-31-14.

Filed Date: 3/31/14.

Accession Number: 20140331-5094.

Comments Due: 5 p.m. ET 4/14/14.

Docket Numbers: RP14-669-000.

Applicants: Texas Eastern Transmission, LP.

Description: NJRES 8932289 4-1-2014 Negotiated Rate to be effective 4/1/2014.

Filed Date: 3/31/14.

Accession Number: 20140331-5095.

Comments Due: 5 p.m. ET 4/14/14.

Docket Numbers: RP14-670-000.

Applicants: Gulf South Pipeline Company, LP.

Description: Cap Rel Neg Rate Agmt (QEP 37657 to BP 42137) to be effective 4/1/2014.

Filed Date: 3/31/14.

Accession Number: 20140331-5123.

Comments Due: 5 p.m. ET 4/14/14.

Docket Numbers: RP14-671-000.

Applicants: ANR Pipeline Company.

Description: Wisconsin Gas LLC FSS Agmt to be effective 4/1/2014.

Filed Date: 3/31/14.

Accession Number: 20140331-5124.

Comments Due: 5 p.m. ET 4/14/14.

Docket Numbers: RP14-672-000.

Applicants: Gulf South Pipeline Company, LP.

Description: Cap Rel Neg Rate Agmt (EOG 34687 to Tenaska 41553) to be effective 4/1/2014.

Filed Date: 3/31/14.

Accession Number: 20140331-5125.

Comments Due: 5 p.m. ET 4/14/14.

Docket Numbers: RP14-673-000.

Applicants: Transcontinental Gas Pipe Line Company.

Description: Negotiated Rates—WSS-OA—WGL to be effective 4/1/2014.

Filed Date: 3/31/14.

Accession Number: 20140331-5126.

Comments Due: 5 p.m. ET 4/14/14.

Docket Numbers: RP14-674-000.

Applicants: Portland Natural Gas Transmission System.

Description: Cargill Neg Rate Agmts to be effective 4/1/2014.

Filed Date: 3/31/14.

Accession Number: 20140331-5127.

Comments Due: 5 p.m. ET 4/14/14.

Docket Numbers: RP14-675-000.

Applicants: Gulf South Pipeline Company, LP.

Description: Amendment to Neg Rate Agmts (QEP 37657-64 and 36601-21) to be effective 4/1/2014.

Filed Date: 3/31/14.

Accession Number: 20140331-5131.

Comments Due: 5 p.m. ET 4/14/14.

Docket Numbers: RP14-676-000.

Applicants: Gulf South Pipeline Company, LP.

Description: CapRelNegRateAgmts (PHK 41455,41448 to Texla 42198,42228,42229 & Sequent 42227) to be effective 4/1/2014.

Filed Date: 3/31/14.

Accession Number: 20140331-5132.

Comments Due: 5 p.m. ET 4/14/14.

Docket Numbers: RP14-677-000.

Applicants: Gulf South Pipeline Company, LP.

Description: Cap Rel Neg Rate Agmt (JW Operating 34690 to QWest 42236) to be effective 4/1/2014.

Filed Date: 3/31/14.

Accession Number: 20140331-5133.

Comments Due: 5 p.m. ET 4/14/14.

Docket Numbers: RP14-678-000.

Applicants: Gulf South Pipeline Company, LP.

Description: Cap Rel Neg Rate Agmt (QEP 36601 to BP 42237) to be effective 4/1/2014.

Filed Date: 3/31/14.

Accession Number: 20140331-5136.

Comments Due: 5 p.m. ET 4/14/14.

Docket Numbers: RP14-679-000.

Applicants: Gulf South Pipeline Company, LP.

Description: Cap Rel Neg Rate Agmt (Pivotal 34691 to Sequent 42239) to be effective 4/1/2014.

Filed Date: 3/31/14.

Accession Number: 20140331-5137.

Comments Due: 5 p.m. ET 4/14/14.

Docket Numbers: RP14-680-000.

Applicants: Gulf South Pipeline Company, LP.

Description: Cap Rel Neg Rate Agmt (EOG 34687 to Trans LA 42242) to be effective 3/31/2014.

Filed Date: 3/31/14.

Accession Number: 20140331-5138.

Comments Due: 5 p.m. ET 4/14/14.

Docket Numbers: RP14-681-000.

Applicants: Transcontinental Gas Pipe Line Company.

Description: Non-Conforming Agreement_NESL_Hess to be effective 4/1/2014.

Filed Date: 3/31/14.

Accession Number: 20140331-5166.

Comments Due: 5 p.m. ET 4/14/14.

Docket Numbers: RP14-682-000.

Applicants: Alliance Pipeline L.P.

Description: Devon to CNRL to be effective 4/1/2014.

Filed Date: 3/31/14.

Accession Number: 20140331-5199.

Comments Due: 5 p.m. ET 4/14/14.

Docket Numbers: RP14-683-000.

Applicants: Transcontinental Gas Pipe Line Company.

Description: Negotiated Rates—ESS—Hess Energy Marketing, LLC to be effective 4/1/2014.

Filed Date: 3/31/14.

Accession Number: 20140331-5217.

Comments Due: 5 p.m. ET 4/14/14.

Docket Numbers: RP14-684-000.

Applicants: Kern River Gas Transmission Company.

Description: Gas compressor fuel factors and lost and unaccounted-for gas factors for calendar year 2013 of Kern River Gas Transmission Company.

Filed Date: 3/31/14.

Accession Number: 20140331-5225.

Comments Due: 5 p.m. ET 4/14/14.

Docket Numbers: RP14-685-000.

Applicants: Equitrans, L.P.

Description: Interruptible Wheeling Service to be effective 4/30/2014.

Filed Date: 3/31/14.

Accession Number: 20140331-5224.

Comments Due: 5 p.m. ET 4/14/14.

Docket Numbers: RP14-686-000.

Applicants: East Tennessee Natural Gas, LLC.

Description: East Tennessee Natural Gas, LLC. submits is cashout report for the period November 2012 through October 2013.

Filed Date: 3/31/14.

Accession Number: 20140331-5231.

Comments Due: 5 p.m. ET 4/14/14.

Docket Numbers: RP14-687-000.

Applicants: Trailblazer Pipeline Company LLC.

Description: Neg Rate 2014-03-31 Mieco to be effective 4/1/2014.

Filed Date: 3/31/14.

Accession Number: 20140331-5253.

Comments Due: 5 p.m. ET 4/14/14.

Docket Numbers: RP14-688-000.

Applicants: Transcontinental Gas Pipe Line Company.

Description: Update List of Non-Conforming Service Agreements (Hess, VPEM) to be effective 4/1/2014.

Filed Date: 3/31/14.

Accession Number: 20140331-5255.

Comments Due: 5 p.m. ET 4/14/14.

Docket Numbers: RP14-689-000.

Applicants: American Midstream (Midla), LLC.

Description: Midla Non-Conforming Agreements to be effective 4/1/2014.

Filed Date: 3/31/14.

Accession Number: 20140331-5260.

Comments Due: 5 p.m. ET 4/14/14.

Docket Numbers: RP14-690-000.

Applicants: Gulf South Pipeline Company, LP.

Description: Cap Rel Neg Rate Agmt (Centerpoint 35483,35484, 35485 to BP 42245,42246,42248) to be effective 4/1/2014.

Filed Date: 3/31/14.

Accession Number: 20140331-5261.

Comments Due: 5 p.m. ET 4/14/14.

Docket Numbers: RP14-691-000.

Applicants: Gulf South Pipeline Company, LP.

Description: Amendment to Neg Rate Agmt (FPL 40097-5) to be effective 4/1/2014.

Filed Date: 3/31/14.

Accession Number: 20140331-5262.

Comments Due: 5 p.m. ET 4/14/14.

Docket Numbers: RP14-692-000.

Applicants: Texas Eastern Transmission, LP.

Description: EQT 04-01-2014 Releases to be effective 4/1/2014.

Filed Date: 3/31/14.

Accession Number: 20140331-5269

Comments Due: 5 p.m. ET 4/14/14.

Docket Numbers: RP14-693-000.

Applicants: Natural Gas Pipeline Company of America.

Description: Negotiated Rate Filing—EOG Resources to be effective 4/1/2014.

Filed Date: 3/31/14.

Accession Number: 20140331-5272.

Comments Due: 5 p.m. ET 4/14/14.

Docket Numbers: RP14-694-000.

Applicants: Algonquin Gas Transmission, LLC.

Description: ConEd Ramapo April 2014 Release to be effective 4/1/2014.

Filed Date: 3/31/14.

Accession Number: 20140331-5273.

Comments Due: 5 p.m. ET 4/14/14.

Docket Numbers: RP14-695-000.

Applicants: Northern Natural Gas Company.

Description: 20140331 Negotiated Rate to be effective 4/1/2014.

Filed Date: 3/31/14.

Accession Number: 20140331-5275.

Comments Due: 5 p.m. ET 4/14/14.

Docket Numbers: RP14-696-000.

Applicants: TC Offshore LLC.

Description: ConocoPhillips Neg Rate to be effective 4/1/2014.

Filed Date: 3/31/14.

Accession Number: 20140331-5305.

Comments Due: 5 p.m. ET 4/14/14.

Docket Numbers: RP14-697-000.

Applicants: Transcontinental Gas Pipe Line Company.

Description: Negotiated Rates—Staten Island Heater Facility Surcharge to be effective 4/1/2014.

Filed Date: 3/31/14.

Accession Number: 20140331-5324.

Comments Due: 5 p.m. ET 4/14/14.

Docket Numbers: RP14-698-000.

Applicants: Millennium Pipeline Company, LLC.

Description: Negotiated Rate Service Agmts—NationalGrid, TCO, CentralHudson, ConEd, Keyspan to be effective 5/1/2014.

Filed Date: 3/31/14.

Accession Number: 20140331-5351.

Comments Due: 5 p.m. ET 4/14/14.

Docket Numbers: RP14-699-000.

Applicants: Iroquois Gas Transmission System, L.P.

Description: 03/31/14. Negotiated Rates—Cargill Incorporated (RTS) 3085-17 & 18 to be effective 4/1/2014.

Filed Date: 3/31/14.

Accession Number: 20140331-5382

Comments Due: 5 p.m. ET 4/14/14.

Docket Numbers: RP14-700-000.

Applicants: Iroquois Gas Transmission System, L.P.

Description: 03/31/14. Negotiated Rates—United Energy Trading, LLC. (RTS) 5095-20 & 22 to be effective 4/1/2014.

Filed Date: 3/31/14.

Accession Number: 20140331-5390.

Comments Due: 5 p.m. ET 4/14/14.

Docket Numbers: RP14-701-000.

Applicants: Transcontinental Gas Pipe Line Company,

Description: Cancellation of Negotiated Rate Amendments—Staten Isl. Heater Facility Surchg to be effective 4/1/2014.

Filed Date: 3/31/14.

Accession Number: 20140331-5447.

Comments Due: 5 p.m. ET 4/14/14.

Docket Numbers: RP14-702-000.

Applicants: Natural Gas Pipeline Company of America

Description: Penalty Revenue Crediting Report of Natural Gas Pipeline Company of America LLC.

Filed Date: 3/31/14.

Accession Number: 20140331-5488.

Comments Due: 5 p.m. ET 4/14/14.

Docket Numbers: RP14-703-000.

Applicants: Wyoming Interstate Company, L.L.C.

Description: Request for Limited Waiver of Wyoming Interstate Company, L.L.C.

Filed Date: 3/31/14.

Accession Number: 20140331-5490.

Comments Due: 5 p.m. ET 4/7/14.

Docket Numbers: RP14-704-000.

Applicants: Rockies Express Pipeline LLC.

Description: Accounting Filing or Request of Rockies Express Pipeline LLC.

Filed Date: 3/31/14.

Accession Number: 20140331-5491.

Comments Due: 5 p.m. ET 4/14/14.

Docket Numbers: RP14-705-000.

Applicants: Chandeleur Pipe Line, LLC.

Description: Annual Operational Transaction(s) Report for Chandeleur Pipe Line, LLC.

Filed Date: 3/31/14.

Accession Number: 20140331-5495.

Comments Due: 5 p.m. ET 4/14/14.

Docket Numbers: RP14-706-000.

Applicants: Sabine Pipe Line LLC.

Description: Annual Operational Transaction(s) Report for Sabine Pipe Line LLC.

Filed Date: 3/31/14.

Accession Number: 20140331-5496.

Comments Due: 5 p.m. ET 4/14/14.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP14-567-001.

Applicants: Columbia Gas Transmission, LLC.

Description: OTRA Tariff Modifications Compliance Filing to be effective 4/1/2014.

Filed Date: 3/31/14.

Accession Number: 20140331-5134.

Comments Due: 5 p.m. ET 4/14/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2014.
Nathaniel J. Davis, Sr.,
Deputy Secretary.

[FR Doc. 2014-08027 Filed 4-9-14; 8:45 am]

BILLING CODE 6717-01-P